DEPARTMENT OF STATE

[Public Notice 4774]

Determination by the Department of State Regarding Shrimp Imports From the Queensland East Coast Trawl Fishery, the Torres Strait Prawn Fishery, and the Exmouth Gulf Prawn Managed Fishery

SUMMARY: The Department of State has determined that shrimp harvested in Australia's Queensland East Coast Trawl Fishery, the Torres Strait Prawn Fishery, and the Exmouth Gulf Prawn Managed Fishery are harvested in a manner that does not pose a threat of the incidental taking of sea turtles. Accordingly, the prohibitions on the importation of shrimp set forth in Section 609 of Public Law 101-162 do not apply to shrimp harvested in these three fisheries.

EFFECTIVE DATE: Upon publication.

FOR FURTHER INFORMATION CONTACT: Mr. James Story, Office of Marine Conservation, Bureau of Oceans and International Environmental and Scientific Affairs, Department of State, Washington DC, telephone number (202) 647-2335.

SUPPLEMENTARY INFORMATION: Section 609 of Public Law 101-162 (“Section 609”) prohibits the importation of shrimp and products of shrimp harvested with commercial fishing technology that may adversely affect species of sea turtles protected under U.S. laws and regulations.

The President delegated authority for implementing Section 609 to the Department of State. On April 19, 1996, in the exercise of this authority, the Department of State determined that the import prohibitions of Section 609 do not apply to shrimp harvested under certain conditions, since such harvesting does not adversely affect sea turtle species. The Department of State published a notice in the Federal Register on July 8, 1999 (Public Notice 3086, 64 FR 36946), which revised the guidelines used by the Department in implementing Section 609 to elaborate these conditions.

The relevant provisions of those guidelines follow:

“B. Shrimp Harvested in a Manner Not Harmful to Sea Turtles.

The Department of State has determined that the import prohibitions imposed pursuant to Section 609 do not apply to shrimp or products of shrimp harvested under the following conditions, since such harvesting does not adversely affect sea turtles:

a. Shrimp harvested in an aquaculture facility in which the shrimp spend at least 30 days in a pond prior to being harvested.

b. Shrimp harvested by commercial shrimp trawl vessels using TEDs comparable in effectiveness to those required in the United States. (emphasis added.)

c. Shrimp harvested exclusively by means that do not involve the retrieval of fishing nets by mechanical devices, such as winches, pulleys, power blocks or other devices providing mechanical advantage, or by vessels using gear that, in accordance with the U.S. program described above, would not require TEDs.

d. Shrimp harvested in any other manner or under any other circumstances that the Department of State may determine, following consultation with the National Marine Fisheries Service, does not pose a threat of the incidental taking of sea turtles. The Department of State shall publish any such determinations in the Federal Register and shall notify affected foreign governments and other interested parties directly.”

The revision of the Department of State's guidelines also included a decision to undertake regular examinations of the procedures that governments of uncertified nations have put in place for verifying the accurate completion of the DS-2031 forms. TED-caught shrimp harvested in a nation without such procedures will not be permitted to enter the United States.

The Government of Australia passed a law effective on April 15, 2000, requiring the use of TEDs by all commercial shrimp trawl vessels operating in the Northern Prawn Fishery of Australia (“NPF”). Based on extensive information provided by the Government of Australia concerning this law and its implementation, and in consultation with the National Marine Fisheries Service, the Department has since determined that shrimp harvested in the NPF after April 15, 2000, meet the requirements for the exception relating to “TED-caught” shrimp. This exemption still remains.

Recently in Australia, the states of Western Australia and Queensland have joined with the Australian Government to mandate the use of TEDs in three additional discreet fisheries: Exmouth Gulf Prawn Managed Fishery, Queensland East Coast Trawl Fishery, and the Torres Strait Prawn Fishery. Based on the information provided by the Government of Australia concerning these regulations, and in consultation with the National Marine Fisheries Service which conducted a verification visit to these fisheries in April 2004, the Department has determined that shrimp harvested in these three additional fisheries meet the requirements for the exception relating to “TED-caught” shrimp. Consequently, shipments of TED-caught shrimp from these three additional Australia fisheries harvested after June 3 should be allowed to enter the United States if accompanied by a properly completed DS-2031 form which includes the signature of an official of the harvesting country with direct knowledge of the method of harvest.

Dated: July 13, 2004.
David A. Balton,
Deputy Assistant Secretary for Oceans and Fisheries, Department of State.

[FR Doc. 04-16733 Filed 7-21-04; 8:45 am]

BILLING CODE 4710-09-P